FEDERAL COMMUNICATIONS COMMISSION

47 CFR Part 73

[DA 01-1198; MM Docket No. 01-110, RM-9927]

Radio Broadcasting Services; Newberry and Simpsonville, SC

AGENCY: Federal Communications Commission.

ACTION: Proposed rule.

SUMMARY: The Commission requests comments on a petition filed by Upstate-Carolina Broadasting Company, LLC, proposing the downgrade of Channel 292C3 to Channel 292A at Newberry, the reallotment of Channel 292A from Newberry to Simpsonville, South Carolina, and the modification of Station WGVC(FM)'s construction permit accordingly. Channel 292A can be reallotted to Simpsonville in compliance with the Commission's minimum distance separation requirements at city reference coordinates. The coordinates for Channel 292A at Simpsonville are 34-44-13 North Latitude and 82-15-16 West Longitude. In accordance with Section 1.420(i) of the Commission's Rules, we will not accept competing expressions of interest for the use of Channel 292A at Simpsonville, South Carolina.

DATES: Comments must be filed on or before July 2, 2001, reply comments on or before July 17, 2001.

ADDRESSES: Federal Communications Commission, Washington, DC 20554. In addition to filing comments with the FCC, interested parties should serve the petitioner, or its counsel or consultant, as follows: Robert Lewis Thompson, Esq., Thiemann, Aitken, et al., L.C., 908 King Street, Suite 300, Alexandria, Virginia 22314 (Counsel for Petitioner).

FOR FURTHER INFORMATION CONTACT: Sharon P. McDonald, Mass Media Bureau, (202) 418-2180.

SUPPLEMENTARY INFORMATION: This is a synopsis of the Commission's Notice of Proposed Rule Making, MM Docket No. 01-110, adopted May 2, 2001, and released May 11, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

Section 73.202(b), the Table of FM Allotments under South Carolina is amended by removing Newberry, Channel 292C3, and adding Simpsonville, Channel 292A.

Federal Communications Commission.
John A. Karousos,
Chief, Allocations Branch, Policy and Rules Division, Mass Media Bureau.

[FR Doc. 01-13715 Filed 5-31-01; 8:45 am]

BILLING CODE 6712-01-U